DEPARTMENT OF THE INTERIOR

Fish and Wildlife Service

[FWS-HQ-NWRS-2022-N051; FXRS12610900000-223-FF09R24000; OMB Control Number 1018-0162]

Agency Information Collection Activities; Submission to the Office of Management and Budget for Review and Approval; Non-Federal Oil and Gas Operations on National Wildlife Refuge System Lands

AGENCY: Fish and Wildlife Service, Interior.

ACTION: Notice of information collection; request for comment.

SUMMARY: In accordance with the Paperwork Reduction Act of 1995, we, the U.S. Fish and Wildlife Service (Service), are proposing to revise an existing collection of information.

DATES: Interested persons are invited to submit comments on or before November 18, 2022.

ADDRESSES: Send your comments on the information collection request (ICR) before the close of the comment period listed under DATES to https://www.reginfo.gov/public/do/PRAMain. Find this particular information collection by selecting “Currently under Review—Open for Public Comments” or by using the search function. Please provide a copy of your comments to the Service Information Collection Clearance Officer, U.S. Fish and Wildlife Service, 5275 Leesburg Pike, MS: PRB (JAO/3W), Falls Church, VA 22041-3803 (mail); or by email to Info_Coll@fws.gov. Please reference OMB Control Number 1018-0162 in the subject line of your comments.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On January 27, 2022, we published in the Federal Register (87 FR 4275) a notice of our intent to request that OMB approve our proposed revision to this information collection. In that notice, we solicited comments for 60 days, ending on March 28, 2022. In an effort to increase public awareness of, and participation in, our public commenting processes associated with information collection requests, the Service also published the Federal Register notice on https://www.regulations.gov (Docket FWS-HQ-NWRS-2021-0155) to provide the public with an additional method to submit comments (in addition to the typical Info_Coll@fws.gov email and U.S. mail submission methods). We received the following four comments in response to this notice:

Comment 1: Email from Jean Public, received 01/30/2022:

The commenter states it is unnecessary to lease oil and gas resources on public lands.

Agency Response to Comment 1: The commenter did not address the information collection requirements. No response required.

Comment 2: Anonymous electronic comment via https://www.regulations.gov (FWS-HQ-NWRS-2021-0155-0002), received on 02/02/2022:

The commenter recommends that no permits be issued.

Agency Response to Comment 2: The commenter did not address the information collection requirements. No response required.

Comment 3: Anonymous electronic comment via https://www.regulations.gov (FWS-HQ-NWRS-2021-0155-0003), received on 03/01/2022:

The commenter recommends stopping all oil and gas production on public lands.

Agency Response to Comment 3: The commenter did not address the information collection requirements. No response required.

Comment 4: Anonymous electronic comment via https://www.regulations.gov (FWS-HQ-NWRS-2021-0155-0004), received on 03/23/2022:

The commenter recommends banning fossil fuel production on public lands.

Agency Response to Comment 4: The commenter did not address the information collection requirements. No response required.

On June 1, 2022, we published a second Federal Register notice (87 FR 33200), notifying the public of our intent to request that OMB approve this information collection. This notice solicited comments for an additional 60 days, ending on August 1, 2022. We also described additional revisions identified since the publication of the January 27, 2022. The Service also published this Federal Register notice on https://www.regulations.gov (Docket FWS-HQ-NWRS-2022-0063), to provide the public with an additional method to submit comments (in addition to the typical Info_Coll@fws.gov email and U.S. mail submission methods). We received the following four comments in response to this notice:

Comment 5: Anonymous electronic comment via https://www.regulations.gov (FWS-HQ-NWRS-2022-0063-0002), received on 05/31/2022:

The commenter states that it is unnecessary to develop oil and gas resources on public lands.

Agency Response to Comment 5: The commenter did not address the information collection requirements. No response required.

Comment 6: Electronic comment via https://www.regulations.gov (FWS-HQ-NWRS-2022-0063-0003) from Jean Public, received on 06/01/2022:

The commenter opposes developing oil and gas resources on public lands.

Agency Response to Comment 6: The commenter did not address the information collection requirements. No response required.

Comment 7: Anonymous electronic comment via https://www.regulations.gov (FWS-HQ-NWRS-2022-0063-0004), received on 06/23/2022.

The commenter supports moving the information collection to an electronic format.

Agency Response to Comment 7: With this submission, we are moving toward a format that allows users to submit information collection requirements via an electronic format (automation of FWS Form 3-2469 on the Service's ePermits platform).

Comment 8: Anonymous electronic comment via https://www.regulations.gov (FWS-HQ-NWRS-2022-0063-0005), received on 06/27/2022:

The commenter recommends nationalizing the oil and gas industry.

Agency Response to Comment 8: The commenter did not address the information collection requirements. No response required.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The authority of the Service to regulate non-Federal oil and gas operations on National Wildlife Refuge System (NWRS) lands is broadly derived from the Property Clause of the U.S. Constitution (art. IV, sec. 3), in carrying out the statutory mandates of the Secretary of the Interior, as delegated to the Service, to manage Federal lands and resources under the National Wildlife Refuge System Administration Act (NWRSAA), as amended by the National Wildlife Refuge System Improvement Act (NWRSIA; 16 U.S.C. 668dd et seq.), and to specifically manage species within the NWRS under the provisions of numerous statutes, the most notable of which are the Migratory Bird Treaty Act (MBTA; 16 U.S.C. 715 et seq.), the Endangered Species Act (ESA; 16 U.S.C. 1531 et seq.), and the Fish and Wildlife Act of 1956 (FWA; 15 U.S.C. 742f).

The Service's regulations at 50 CFR part 29, subpart D provide for the continued exercise of non-Federal oil and gas rights while avoiding or minimizing unnecessary impacts to national wildlife refuge resources and uses. Other land management agencies have regulations that address oil and gas development, including the Department of the Interior's National Park Service and Bureau of Land Management, and the U.S. Department of Agriculture's Forest Service. These agencies all require the submission of information similar to the information requested by the Service.

The collection of information is necessary for the Service to properly balance the exercise of non-Federal oil and gas rights within national wildlife refuge boundaries with the Service's responsibility to protect wildlife and habitat, water quality and quantity, wildlife-dependent recreational opportunities, and the health and safety of employees and visitors on NWRS lands.

The information collected under 50 CFR part 29, subpart D identifies the owner and operator (the owner and operator can be the same) and details how the operator may access and develop oil and gas resources. It also identifies the steps the operator intends to take to minimize any adverse impacts of operations on refuge resources and uses. No information is submitted unless the operator wishes to conduct oil and gas operations.

We use the information collected to (1) evaluate proposed operations; (2) ensure that all necessary mitigation measures are employed to protect national wildlife refuge resources and values; and (3) ensure compliance with all applicable laws and regulations, including the National Environmental Policy Act (42 U.S.C. 4321 et seq.) and its regulations (40 CFR parts 1500-1508), and the NWRSAA, as amended by the NWRSIA, and to specifically manage species within the NWRS under the provisions of numerous statutes, the most notable of which are the MBTA, the ESA, the Fish and Wildlife Coordination Act (16 U.S.C. 661 et seq.), and the FWA.

Proposed Revisions

Automation of Application Form via ePermits

With this submission, we are proposing to automate FWS Form 3-2469 in the Service's ePermits system, an automated permit application system that allows the agency to move towards a streamlined permitting process to reduce public burden. Public burden reduction is a priority for the Service; the Assistant Secretary for Fish, Wildlife, and Parks; and senior leadership at the Department of the Interior. The intent of ePermits is to fully automate the permitting process to improve the customer experience and to reduce time burden on respondents. This system enhances the user experience by allowing users to enter data from any device that has internet access, including personal computers (PCs), tablets, and smartphones. It also provides the permit applicant with a link to pay associated permit application fees via the Pay.gov system.

Financial Assurances Costs

With this submission, we will seek OMB approval of the costs associated with the financial assurances requirements as they are required per regulations contained in 50 CFR 29.103(b) and 50 CFR 29.150. These costs were inadvertently overlooked with previous submissions for this collection of information, so at this time we are bringing this requirement into compliance with the PRA as an annual non-hour burden cost. The estimated annual non-hour cost burden associated with the required financial assurances is captured below under “Total Estimated Annual Non-Hour Burden Cost.”

Proposed Changes to Application Form (FWS Form 3-2469)

We propose several changes to the existing FWS Form 3-2469 to improve the user collection experience and our internal processing requirements:

(1) Under the “Type of Permit” on page 1, we are adding these categories:

a. “New”—Used by operators applying for a new permit to operate where no existing Form 3-2469 permit exists;

b. “Renewal”—Used by operators with a currently approved permit to renew the operation without any substantial changes;

c. “Amendment”—Used by an operator with an existing Form 3-2469 approved permit to amend their operations; and

d. “Extension”—Used by an operator with an existing Form 3-2469 approved permit to request an extension to one of its conditions (e.g., extend the shut-in status of a well).

(2) Under the “Production Operations” on page 1, we are adding these subcategories:

a. “Maintenance”—Used for maintenance actions (e.g., need to bring in a workover rig);

b. “Plugging”—Used with plugging and abandoning of a well; and

c. “Reclamation”—Used with all activities remove contaminated soils, equipment, pipe, etc., and restore the site to its original contours and vegetation.

(3) Under the “Contact Information” in part 1 (on page 2), we propose to add two new questions:

a. “Tax Identification Number”; and

b. “Do you have operations on other refuges? If so, provide the names of those refuges.”

(4) Administrative corrections:

a. We corrected the control number in the “Paperwork Reduction Act Statement”; and

b. We updated the mail stop in the “Estimated Burden Statement.”

Title of Collection: Non-Federal Oil and Gas Operations on National Wildlife Refuge System Lands, 50 CFR 29, Subpart D.

OMB Control Number: 1018-0162.

Form Number: FWS Form 3-2469.

Type of Review: Revision of a currently approved collection.

Respondents/Affected Public: Businesses that conduct oil and gas exploration on national wildlife refuges.

Respondent's Obligation: Required to obtain or retain a benefit.

Frequency of Collection: On occasion.

Total Estimated Annual Non-hour Burden Cost: $2,250,000 (associated with the new information collection for financial assurances).

Activity/requirement | Estimated number of annual responses | Completion time per response (hours) | Estimated total annual burden hours
Preexisting Operations (§ 29.61) | 40 | 50 | 2,000
Temporary Access Permit Application (§ 29.71) Hard Copy | 18 | 17 | 306
Temporary Access Permit Application (§ 29.71) ePermits | 18 | 12.75 | 230
Accessing Oil and Gas Rights from Non-Federal Surface Location (§ 29.80) | 5 | 1 | 5
Pre-application Meeting for Operations Permit (§ 29.91) | 45 | 2 | 90
Operations Permit Application (§§ 29.94-29.97) Hard Copy | 23 | 140 | 3,220
Operations Permit Application (§§ 29.94-29.97) ePermits | 23 | 105 | 2,415
Financial Assurance (§§ 29.103(b), 29.150) | 45 | 1 | 45
Identification of Wells and Related Facilities (§ 29.119(b)) | 45 | 2 | 90
Reporting (§ 29.121):
Third-Party Monitor Report (§ 29.121(b)) | 300 | 17 | 5,100
Notification—Injuries/Mortality to Fish and Wildlife and Threatened/Endangered Plants (§ 29.121(c)) | 20 | 1 | 20
Notification—Accidents involving Serious Injuries/Death and Fires/Spills (§ 29.121(d)) | 20 | 1 | 20
Written Report—Accidents Involving Serious Injuries/Deaths and Fires/Spills (§ 29.121(d)) | 20 | 16 | 320
Report—Verify Compliance with Permits (§ 29.121(e)) | 240 | 4 | 960
Permit Modifications (§ 29.160(a)) | 10 | 16 | 160
Notification—Chemical Disclosure of Hydraulic Fracturing Fluids uploaded to FracFocus (§ 29.121(f)) | 5 | 1 | 5
Change of Operator § 29.170:
Transferring Operator Notification (§ 29.170) | 20 | 8 | 160
Extension to Well Plugging (§ 29.181(a))
Application for Permit Hard Copy | 5 | 140 | 700
Application for Permit ePermits | 5 | 105 | 525
Modification Hard Copy | 3 | 16 | 48
Modification ePermits | 3 | 12 | 36
Acquiring Operator's Requirements for Wells Not Under a Service Permit (§ 29.171(a)) Hard Copy | 10 | 40 | 400
Acquiring Operator's Requirements for Wells Not Under a Service Permit (§ 29.171(a)) ePermits | 10 | 30 | 300
Acquiring Operator's Acceptance of an Existing Permit (§ 29.171(b)) | 1 | 8 | 8
Public Information (§ 29.210):
Affidavit in Support of Claim of Confidentiality (§ 29.210(c) and (d)) | 1 | 1 | 1
Confidential Information (§ 29.210(e) and (f)) | 1 | 1 | 1
Maintenance of Confidential Information (§ 29.210(h)) | 1 | 1 | 1
Generic Chemical Name Disclosure (§ 29.210(i)) | 1 | 1 | 1
Totals | 938 |  | 17,167

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-22678 Filed 10-18-22; 8:45 am]

BILLING CODE 4333-15-P